DEPARTMENT OF COMMERCE

National Oceanic and Atmospheric Administration

RIN: 0648-XL32

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee in November, 2008 to consider actions affecting New England fisheries in the exclusive economic zone (EEZ). Recommendations from this group will be brought to the full Council for formal consideration and action, if appropriate.

DATES: This meeting will be held on Monday, November 3, 2008 at 9:30 a.m.

ADDRESSES: This meeting will be held at the Hilton Garden Inn, One Thurber Street, Warwick, RI 02886; telephone: (401) 734-9600; fax: (401) 734-9700

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The committee will review analyses prepared for Council response to Section 7 Endangered Species Act Consultation for the Scallop Fishery Management Plan (Biological Opinion) and discuss potential management measures to comply with findings of biological opinion that would be developed in Framework Adjustment 21. The committee will also review measures already under consideration and develop any new alternatives needed to complete the range of options under consideration for Amendment 15. The primary management topic left to develop is the implementation of annual catch limits (ACLs). Other alternatives that may be revisited or revised at this meeting include: measures to rationalize the limited access scallop fishery; revision of the overfishing definition; modifications to specific aspects of the general category limited entry program implemented by Amendment 11; measures to address essential fish habitat (EFH) closed areas in the Scallop FMP if the EFH Omnibus Amendment is delayed; alternatives to improve the research set-aside program; and modifying the start date of the scallop fishing year. The committee may discuss other topics at their discretion.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 14, 2008.
Tracey L. Thompson,
Acting Director, Office of Sustainable Fisheries, National Marine Fisheries Service.

[FR Doc. E8-24716 Filed 10-16-08; 8:45 am]

BILLING CODE 3510-22-S